DEPARTMENT OF ENERGY

Federal Energy Regulatory Commission

Combined Notice of Filings #1

Take notice that the Commission received the following exempt wholesale generator filings:

Docket Numbers: EG22-25-000.

Applicants: Gruver Wind Interconnection, LLC.

Description: Notice of Self-Certification of Exempt Wholesale Generator Status of Gruver Wind Interconnection, LLC.

Filed Date: 11/18/21.

Accession Number: 20211118-5064.

Comment Date: 5 p.m. ET 12/9/21.

Take notice that the Commission received the following electric rate filings:

Docket Numbers: ER20-1736-003.

Applicants: Emera Maine.

Description: Compliance filing: Versant Power submits tariff filing per 35: Joint Settlement Offer Re: Maine Public Distr. Ord. 864 Compliance (ER20-1736-) to be effective 6/1/2020.

Filed Date: 11/18/21.

Accession Number: 20211118-5055.

Comment Date: 5 p.m. ET 12/9/21.

Docket Numbers: ER21-2438-002.

Applicants: Southwest Power Pool, Inc.

Description: Tariff Amendment: 3630SR1 Maverick Wind Project GIA—Deficiency Response to be effective 6/29/2021.

Filed Date: 11/18/21.

Accession Number: 20211118-5142.

Comment Date: 5 p.m. ET 12/9/21.

Docket Numbers: ER21-2916-000; ER21-2917-000.

Applicants: Milford Wind Corridor Phase II, LLC, Milford Wind Corridor Phase I, LLC.

Description: Supplement to Notice of Change in Category Seller Status for Milford Wind Corridor Phase I, LLC, et al.

Filed Date: 11/17/21.

Accession Number: 20211117-5204.

Comment Date: 5 p.m. ET 12/8/21.

Docket Numbers: ER22-423-000.

Applicants: Columbia Utilities Power Business LLC.

Description: Baseline eTariff Filing: Tariffs and Agreements to be effective 1/17/2022.

Filed Date: 11/18/21.

Accession Number: 20211118-5000.

Comment Date: 5 p.m. ET 12/9/21.

Docket Numbers: ER22-424-000.

Applicants: Assembly Solar III, LLC.

Description: Baseline eTariff Filing: Reactive Power Compensation Filing to be effective 12/31/2021.

Filed Date: 11/18/21.

Accession Number: 20211118-5033.

Comment Date: 5 p.m. ET 12/9/21.

Docket Numbers: ER22-425-000.

Applicants: Enerwise Global Technologies, LLC.

Description: Baseline eTariff Filing: Application for Market-Based Rate Authorization and Request for Exemption to be effective 11/19/2021.

Filed Date: 11/18/21.

Accession Number: 20211118-5037.

Comment Date: 5 p.m. ET 12/9/21.

Docket Numbers: ER22-427-000.

Applicants: Alabama Power Company.

Description: Tariff Amendment: AL Solar C (Cusseta Solar & Storage) LGIA Termination Filing to be effective 11/18/2021.

Filed Date: 11/18/21.

Accession Number: 20211118-5116.

Comment Date: 5 p.m. ET 12/9/21.

Docket Numbers: ER22-428-000.

Applicants: Alabama Power Company.

Description: Tariff Amendment: Hancock County Solar Project LGIA Termination Filing to be effective 11/18/2021.

Filed Date: 11/18/21.

Accession Number: 20211118-5120.

Comment Date: 5 p.m. ET 12/9/21.

Docket Numbers: ER22-429-000.

Applicants: PJM Interconnection, L.L.C.

Description: § 205(d) Rate Filing: Revisions to OATT and OA Definitions No-load Cost and Incremental Energy Offer to be effective 1/18/2022.

Filed Date: 11/18/21.

Accession Number: 20211118-5147.

Comment Date: 5 p.m. ET 12/9/21.

Docket Numbers: ER22-430-000.

Applicants: Midcontinent Independent System Operator, Inc.

Description: § 205(d) Rate Filing: 2021-11-18_SA 3740 Entergy Louisiana-Willis Pond GIA (J1421) to be effective 1/18/2022.

Filed Date: 11/18/21.

Accession Number: 20211118-5151.

Comment Date: 5 p.m. ET 12/9/21.

Docket Numbers: ER22-431-000.

Applicants: Pacific Gas and Electric Company.

Description: § 205(d) Rate Filing: CCSF Sunol Golf Course Project filing (SA 275) to be effective 1/18/2022.

Filed Date: 11/18/21.

Accession Number: 20211118-5161.

Comment Date: 5 p.m. ET 12/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2021.
Debbie-Anne A. Reese,
Deputy Secretary.

[FR Doc. 2021-25681 Filed 11-23-21; 8:45 am]

BILLING CODE 6717-01-P